DEPARTMENT OF HEALTH AND HUMAN SERVICES

Centers for Disease Control and Prevention

[60Day-15-1500]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

CDC Work@Health® Advance: Evaluation of Train-the-Trainer and Advanced Technical Assistance Programs—New—National Center for Chronic Disease Prevention and Health Promotion (NCCDPHP), Centers for Disease Control and Prevention (CDC).

Background and Brief Description

In the United States, chronic diseases such as heart disease, obesity and diabetes are among the most common and costly health problems, but they are also among the most preventable. Adopting healthy behaviors can prevent the devastating effects and reduce the rates of these diseases. Many employers are recognizing the role they can play in creating healthy work environments and providing employees with opportunities to make healthy lifestyle choices.

To support these efforts, the Centers for Disease Control and Prevention (CDC) established a comprehensive workplace health program called Work@Health. The program is authorized by the Public Health Service Act and funded through the Prevention and Public Health Fund of the Patient Protection and Affordable Care Act (ACA). CDC's key objectives for the Work@Health program include: (1) Increasing understanding of employer training needs and the best ways to deliver skill-based training; (2) increasing employers' level of knowledge and awareness of workplace health program concepts and principles; (3) Building employer skills and capacity for developing or expanding workplace health programs; and (4) promoting peer-to-peer, community-based employer cooperation and mentoring.

Through the Work@Health program, CDC developed a training curriculum for employers based on a problem-solving approach to improving employer knowledge and skills related to effective, science-based workplace health programs, and supporting the adoption of these programs in the workplace. Topics covered in the Work@Health curriculum include principles, strategies, and tools for leadership engagement; how to make a business case for workplace health programs; how to assess the needs of organizations and individual employees; how to plan, implement, and evaluate sustainable workplace health programs; and how to partner with community organizations for additional support. An initial, small-scale Phase 1 needs assessment and Work@Health pilot program evaluation were conducted in 2013-2014 (OMB No. 0920-0989, exp. 9/30/2014), followed in March 2014 by expanded Phase 2 full scale training and technical assistance activities involving more than 200 employers nationwide (OMB No. 0920-1006, exp. 1/31/2016). Individuals who completed the training and technical assistance program received a Certificate of Completion.

CDC's Work@Health activities support and complement the efforts of numerous employers, public health agencies, non-profit organizations, and other professional organizations that share an interest in increasing the number of effective, science-based workplace health programs across the United States. Some of these entities have participated directly in Work@Health to take their training and apply it more broadly in their communities. Other entities offer employers opportunities for recognition or accreditation of their workplace health programs based on many of the core concepts and principles addressed in the Work@Health training. Recognition or accreditation programs enhance standards of practice and are appealing to employers to improve their visibility and status, but typically take several years of program growth and development for employers to be in position to successfully obtain them.

CDC proposes a new information collection to support continued expansion of the Work@Health program. The expanded program will offer more advanced training and technical assistance to employers or trainers who have previously received a Certificate of Completion for participating in the basic Work@Health training and technical assistance program. In addition to emphasizing the mastery of core workplace health principles and concepts introduced in the basic course, the expanded Work@Health program will offer targeted technical assistance to help employers prepare for the process of getting their worksite accredited by an external organization. The advanced technical assistance will include an organizational accreditation readiness assessment as well as assessment-driven technical assistance focused on organizational alignment, population health management, and data, outcomes, and reporting. Employers will be responsible for selecting the external recognition or accreditation program that best fits with their vision and goals.

A key component of Work@Health uses a Train-the-Trainer training model to assist with the dissemination of the Work@Health Program. In the Expansion Program, up to 100 additional Train-the-Trainer participants will receive enhanced training in how to deliver the curriculum to employers across the country. They will receive technical assistance and access to an online peer learning platform. Applicants for the Train-the-Trainer model must have previous knowledge, training, and experience with workplace health programs and an interest in becoming instructors for the Work@Health Program. They may be referred by employers, health departments, business coalitions, trade associations, or other organizations.

CDC is requesting OMB approval to initiate information collection for the Work@Health Expansion Program in Spring 2015. CDC plans to collect information from employers who have previously completed the Work@Health training and technical assistance to assess readiness for accreditation of their workplace health program and their need for additional technical assistance; to obtain trainees' reactions to the advanced technical assistance; and to document their experience applying for and receiving accreditation of their workplace health program. CDC also plans to collect information needed to select the individuals who will participate in the enhanced Train-the-Trainer model; and to assess changes in trainees' knowledge and skills before and after participation in Work@Health Train-the Trainer model. Graduates of the Work@Health program will be given the opportunity to complete an annual survey to assess their capacity to maintain and sustain their workplace health program after formal training participation has ended. All information will be collected online to maximize the convenience to respondents.

Respondents will include employers who have previously completed the Work@Health training; those that continue onto the advanced technical assistance program, and individuals who apply to participate in the train-the-trainer model.

Information will be used to evaluate the effectiveness of the Work@Health program in terms of (1) increasing employers' knowledge and capacity to implement workplace health programs and to facilitate applying for accreditation for their programs, and (2) increasing the number of trainers who can provide employers with knowledge and skills in science-based workplace health programs, policies and practices. The information will also be used to identify the best way(s) to deliver skill-based training and technical support to employers in the area of workplace health.

OMB approval is requested for three years. The total estimated annualized burden hours are 470. Participation is voluntary and there are no costs to participants other than their time.

Estimated Annualized Burden Hours
Type of respondents | Form name | Number of respondents | Number of responses per respondent | Average burden per response (in hr) | Total burden (in hr)
Employers Continuing to Advanced Technical Assistance | Accreditation Readiness Assessment | 120 | 2 | 30/60 | 120
| Advanced TA Survey | 120 | 2 | 20/60 | 80
| Follow-up Accreditation Survey | 120 | 1 | 10/60 | 20
Interested New Train-the-Trainer Participants | Train-the Trainer Application Form | 200 | 1 | 30/60 | 100
New Train-the-Trainer Participants in the Work@Health Program | Train-the-Trainer Knowledge and Skills Survey | 100 | 2 | 30/60 | 100
Employer Graduates of Work@Health | Employer Follow-Up Survey | 200 | 1 | 15/60 | 50
Total |  |  |  |  | 470

Leroy A. Richardson,
Chief, Information Collection Review Office, Office of Scientific Integrity, Office of the Associate Director for Science, Office of the Director, Centers for Disease Control and Prevention.

[FR Doc. 2015-03266 Filed 2-17-15; 8:45 am]

BILLING CODE 4163-18-P